DEPARTMENT OF VETERANS AFFAIRS

Joint Biomedical Laboratory Research and Development and Clinical Science Research and Development Services Scientific Merit Review Board, Notice of Meetings

The Department of Veterans Affairs (VA) gives notice under the Public Law 92-463 (Federal Advisory Committee Act) that the panels of the Joint Biomedical Laboratory Research and Development and Clinical Science Research and Development Services Scientific Merit Review Board will meet from 8 a.m. to 5 p.m. on the dates indicated below:

Panel | Date(s) | Location
Endocrinology-B | November 15, 2012 | *VA Central Office.
Hematology | November 16, 2012 | *VA Central Office.
Infectious Diseases-B | November 16, 2012 | Sheraton Crystal City Hotel.
Mental Health and Behavioral Sciences-B | November 16, 2012 | *VA Central Office.
Neurobiology-A | November 16, 2012 | *VA Central Office.
Cellular and Molecular Medicine | November 19, 2012 | Sheraton Crystal City Hotel.
Mental Health and Behavioral Sciences-A | November 20, 2012 | Sheraton Crystal City Hotel.
Aging and Clinical Geriatrics | November 28, 2012 | *VA Central Office.
Immunology-A | November 28, 2012 | Sheraton Crystal City Hotel.
Gastroenterology | November 29, 2012 | Sheraton Crystal City Hotel.
Clinical Trials | November 29-30, 2012 | *VA Central Office.
Pulmonary Medicine | November 29-30, 2012 | Sheraton Crystal City Hotel.
Infectious Diseases-A | December 4, 2012 | *VA Central Office.
Epidemiology | December 6, 2012 | *VA Central Office.
Nephrology | December 6, 2012 | Sheraton Crystal City Hotel.
Neurobiology-C | December 6-7, 2012 | Sheraton Crystal City Hotel.
Oncology-A | December 6-7, 2012 | American Association of Airport Executives.
Neurobiology-E | December 7, 2012 | *VA Central Office.
Cardiovascular Studies | December 10, 2012 | Sheraton Crystal City Hotel.
Endocrinology-A | December 10-11, 2012 | Sheraton Crystal City Hotel.
Surgery | December 11, 2012 | Sheraton Crystal City Hotel.
Clinical Application of Genetics | December 12, 2012 | *VA Central Office.
Neurobiology-D | December 13, 2012 | Sheraton Crystal City Hotel.
Eligibility | January 18, 2013 | Sheraton Crystal City Hotel.
The addresses of the meeting sites are:
American Association of Airport Executives, 601 Madison Street, Alexandria, VA.
Sheraton Crystal City, 1800 Jefferson Davis Highway, Arlington, Virginia.
VA Central Office, 131 M Street NE., Washington, DC.
*Teleconference.

The purpose of the Board is to provide advice on the scientific quality, budget, safety and mission relevance of investigator-initiated research proposals submitted for VA merit review consideration. Proposals submitted for review by the Board involve a wide range of medical specialties within the general areas of biomedical, behavioral and clinical science research.

The panel meetings will be open to the public for approximately one-half hour at the start of each meeting to discuss the general status of the program. The remaining portion of each panel meeting will be closed to the public for the review, discussion, and evaluation of initial and renewal research proposals.

The closed portion of each meeting involves discussion, examination, reference to staff and consultant critiques of research proposals. During this portion of each meeting, discussions will deal with scientific merit of each proposal and qualifications of personnel conducting the studies, the disclosure of which would constitute a clearly unwarranted invasion of personal privacy, as well as research information, the premature disclosure of which could significantly frustrate implementation of proposed agency action regarding such research proposals. As provided by subsection 10(d) of Public Law 92-463, as amended, closing portions of these panel meetings is in accordance with 5 U.S.C., 552b(c)(6) and (9)(B).

Those who plan to attend the general session or would like to obtain a copy of minutes of the panel meetings and rosters of the members of the panels should contact LeRoy G. Frey, Ph.D., Chief, Program Review (10P9B), Department of Veterans Affairs, 810 Vermont Avenue NW., Washington, DC 20420, or call (202) 443-5674 or by email at Leroy.frey@va.gov.

By Direction of the Secretary.
Dated: October 16, 2012.
Vivian Drake,
Committee Management Officer.

[FR Doc. 2012-25807 Filed 10-19-12; 8:45 am]

BILLING CODE P